DEPARTMENT OF LABOR

Occupational Safety and Health Administration

[Docket No. ICR-1218-0183(2006)]

Standard on 4,4′-Methylenedianiline in Construction; Extension of the Office of Management and Budget's Approval of Information Collection (Paperwork) Requirements

AGENCY: Occupational Safety and Health Administration (OSHA), Labor.

ACTION: Request for comment.

SUMMARY: OSHA requests comment concerning its proposed extension of the information collection requirements specified by the Standard on 4,4′-Methylenedianiline (MDA) in Construction (29 CFR 1926.60). The Standard protects employees from the adverse health effects that may result from occupational exposure to MDA, including cancer, and liver and skin disease.

DATES: Comments must be submitted by the following dates:

Hard Copy: Your comment must be submitted (postmarked or received) by October 16, 2006.

Facsimile and electronic transmission: Your comments must be received by October 16, 2006.

ADDRESSES: You may submit comments, identified by OSHA Docket No. ICR-1218-0183(2006), by any of the following methods:

I. Submission of Comments

Regular mail, express delivery, hand delivery, and messenger service: Submit your comments and attachments to the OSHA Docket Office, Room N-2625, U.S. Department of Labor, 200 Constitution Avenue, NW., Washington, DC 20210; telephone (202) 693-2350 (OSHA's TTY number is (877) 889-5627). OSHA Docket Office and Department of Labor hours are 8:15 a.m. to 4:45 p.m., e.t.

Facsimile: If your comments are 10 pages or fewer in length, including attachments, you may fax them to the OSHA Docket Office at (202) 693-1648.

Electronic: You may submit comments through the Internet at http://ecomments.osha.gov.

Docket: For access to the docket to read or download comments or background materials, such as the complete Information Collection Request (ICR) (containing the Supporting Statement, OMB-83-I Form, and attachments), go to OSHA's Web page at http://www.OSHA.gov. In addition, the ICR, comments, and submissions are available for inspection and copying at the OSHA Docket Office at the address above. You may also contact Todd Owen at the address below to obtain a copy of the ICR. For additional information on submitting comments, please see the “Public Participation” section in SUPPLEMENTARY INFORMATION.

FOR FURTHER INFORMATION CONTACT: Jamaa Hill or Todd Owen, Directorate of Standards and Guidance, OSHA, U.S. Department of Labor, Room N-3609, 200 Constitution Avenue, NW., Washington, DC 20210; telephone (202) 693-2222.

SUPPLEMENTARY INFORMATION:

Background

The Department of Labor, as part of its continuing effort to reduce paperwork and respondent (i.e., employer) burden, conducts a preclearance consultation program to provide the public with an opportunity to comment on proposed and continuing information collection requirements in accordance with the Paperwork Reduction Act of 1995 (44 U.S.C. 3506(c)(2)(A)). This program ensures that information is in the desired format, reporting burden (time and costs) is minimal, collection instruments are clearly understood, and OSHA's estimate of the information collection burden is correct. The Occupational Safety and Health Act of 1970 (the Act) authorizes information collection by employers as necessary or appropriate for enforcement of the Act or for developing information regarding the causes and prevention of occupational injuries, illnesses, and accidents (29 U.S.C. 657).

The information collection requirements specified in he 4,4′-Methylenedianiline Standard for Construction (the “MDA Standard”) protect employees from the adverse health effects that may result from their exposure to MDA, including cancer, and liver and skin disease. The major paperwork requirements specify that employers must perform initial, periodic, and additional exposure monitoring; notify each employee in writing of their results as soon as possible, but no longer than 5 days after receiving exposure-monitoring results; and routinely inspect the hands, face, and forearms of each employee potentially exposed to MDA for signs of dermal exposure to MDA. Employers must also: Establish a written compliance program; institute a respiratory protection program in accordance with 29 CFR 1910.134 (OSHA's Respiratory Protection Standard); and develop a written emergency plan for any construction operation that could have an emergency (i.e., an unexpected and potentially hazardous release of MDA).

Employers are to label any material or products containing MDA, including containers used to store MDA-contaminated protective clothing and equipment. They also must inform personnel who launder MDA-contaminated clothing of the requirement to prevent release of MDA, while personnel who launder or clean MDA-contaminated protective clothing or equipment must receive information about the potentially harmful effects of MDA. In addition, employers are to post warning signs at entrances or access ways to regulated areas, as well as train employees who may be exposed to MDA both at the time of their initial assignment and at least annually thereafter.

Other paperwork provisions of the MDA Standard require employers to provide employees with medical examinations, including initial, periodic, emergency, and follow-up examinations. As part of the medical surveillance program, employers must ensure that the examining physician receives specific written information, and that they obtain from the physician a written opinion regarding the employee's medical results and exposure limitations.

The MDA Standard also specifies that employers are to establish and maintain exposure-monitoring and medical surveillance records for each employee who is subject to these respective requirements, make any required record available to OSHA compliance officers and the National Institute for Occupational Safety and Health (NIOSH) for examination and copying, and provide exposure-monitoring and medical surveillance records to employees and their designated representatives. Finally, employers who cease to do business within the period specified for retaining exposure-monitoring and medical surveillance records, and who have no successor employer, must notify NIOSH at least 90 days before disposing of the records and transmit the records to NIOSH if so requested.

II. Special Issues for Comment

OSHA has a particular interest in comments on the following issues:

• Whether the proposed information collection requirements are necessary for the proper performance of the Agency's functions to protect employees, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA proposes to extend the Office of Management and Budget's (OMB) approval of the collection of information requirements specified by the Standard on 4,4′-Methylenedianiline in Construction (29 CFR 1926.60), and to decrease the total burden hour estimates by two hours. The Agency will summarize the comments submitted in response to this notice, and will include this summary in its request to OMB to extend the approval of these information collection requirements.

Type of Review: Extension of a currently-approved information collection requirement.

Title: 4,4′-Methylenedianiline Standard for Construction (29 CFR 1926.60).

OMB Number: 1218-0183.

Affected Public: Business or other for-profit; not-for-profit institutions; Federal Government; State, Local, or Tribal Governments.

Number of Respondents: 66.

Frequency of Recordkeeping: On occasion; quarterly; semi-annually; annually.

Average Time per Response: Varies from five minutes (.08 hour) to provide information to the physician to 2 hours for initial monitoring.

Total Annual Hours Requested: 1,607.

Estimated Cost (Operation and Maintenance): $80,412.

IV. Authority and Signature

Edwin G. Foulke, Jr., Assistant Secretary of Labor for Occupational Safety and Health, directed the preparation of this notice. The authority for this notice is the Paperwork Reduction Act of 1995 (44 U.S.C. 3506) and Secretary of Labor's Order No. 5-2002 (67 FR 65008).

Signed at Washington, DC, on August 9, 2006.
Edwin G. Foulke, Jr.,
Assistant Secretary of Labor.

[FR Doc. 06-6946 Filed 8-15-06; 8:45 am]

BILLING CODE 4510-26-M